DEPARTMENT OF COMMERCE

National Oceanic and Atmospheric Administration

[RTID 0648-XW019]

U.S. Stakeholder Meeting on Pacific Bluefin Tuna Fishery Management Framework; Meeting Announcement

AGENCY: National Marine Fisheries Service (NMFS), National Oceanic and Atmospheric Administration (NOAA), Commerce.

ACTION: Notice of public meeting; rescheduled meeting.

SUMMARY: NMFS is holding a meeting to discuss the future management of the U.S. West Coast Pacific bluefin tuna (PBF) fishery, including management objectives and a management framework. Given recent developments related to Coronavirus/COVID-19, we have decided to reschedule this meeting originally planned for April 23, 2020. We are taking this step out of an abundance of caution to consider the safety of our visitors. The new date for this meeting is May 19, 2020.

DATES: The meeting will be held May 19, 2020, from 9 a.m. to 4:30 p.m. PDT, or until business concludes.

ADDRESSES: The meeting will be held in Room 3400 at the Glenn M. Anderson Federal Building, 501 W. Ocean Blvd., Long Beach, California 90802. Please notify Eric Poncelet (meeting facilitator), at eponcelet@kearnswest.com or (415) 697-0566 by May 4, 2020, if you plan to attend. If interested members of the public cannot reasonably attend the meeting in person, NMFS may provide for a teleconference phone line or webinar for such members if a request is made to the meeting facilitator. NMFS strongly encourages in-person participation in order to facilitate discussion, unless developments related to Coronavirus/COVID-19 restrict attendance in person at that time. See SUPPLEMENTARY INFORMATION for additional information on attendance, participation instructions, and meeting materials.

FOR FURTHER INFORMATION CONTACT: Celia Barroso, West Coast Region, NMFS, at Celia.Barroso@noaa.gov, or at (562) 432-1850.

SUPPLEMENTARY INFORMATION: NMFS intended to hold a meeting to discuss the future management of the U.S. West Coast PBF fishery, including management objectives and a management framework, on April 23, 2020 (85 FR 11967; February 28, 2020). However, given recent developments related to Coronavirus/COVID-19, we have decided to reschedule this meeting originally planned for April 23, 2020. We are taking this step out of an abundance of caution to consider the safety of our participants. The new date for this meeting is May 19, 2020.

Stakeholders have expressed an interest in developing management objectives and a long-term management framework for PBF. In September 2018, the Pacific Fishery Management Council (PFMC) recommended that its Highly Migratory Species Management Team develop a long-term management strategy for PBF (see the PFMC's “September 2018 Decision Summary Document” at https://www.pcouncil.org/wp-content/uploads/2018/09/0918_Decision_Summary_DocumentV2.pdf). On May 2, 2019, NMFS held a stakeholder meeting in which participants discussed potential management objectives and strategies to achieve those objectives for the domestic commercial PBF fishery (see the NMFS report to the June PFMC meeting at https://www.pcouncil.org/wp-content/uploads/2019/06/J2b_Sup_NMFS_Rpt3_JUN2019BB.pdf). The upcoming meeting that is rescheduled for May 19, 2020, is intended to follow up the discussion from the 2019 stakeholder meeting as well as provide an opportunity for early comments on how to implement a new Inter-American Tropical Tuna Commission (IATTC) resolution on PBF conservation and management for 2021-2022 that NMFS anticipates the IATTC will adopt at its annual meeting in August 2020. In order to facilitate discussion, NMFS strongly encourages in-person participation at the meeting location described in the ADDRESSES section, if possible and unless developments related to Coronavirus/COVID-19 restrict attendance in person at that time. NMFS will email attendance instructions, which may include instructions to attend by teleconference or webinar, and background materials to the meeting participants who notify the meeting facilitator as described in the ADDRESSES section.

PBF U.S. Stakeholder Meeting Topics

The PBF U.S. stakeholder meeting topics may include, but are not limited to, the following:

(1) An overview of international management of PBF and current management of the U.S. PBF fishery; and,

(2) Potential management options for 2021-2022 and in the long-term.

Special Accommodations

The meeting location is physically accessible to people with disabilities. Requests for sign language interpretation or other auxiliary aids should be directed to Celia Barroso, at Celia.Barroso@noaa.gov or (562) 432-1850, by April 27, 2020.

Authority: 16 U.S.C. 951 et seq., 16 U.S.C. 1801 et seq., 16 U.S.C. 6901 et seq.

Dated: April 2, 2020.
Hélène M.N. Scalliet,
Acting Director, Office of Sustainable Fisheries, National Marine Fisheries Service.

[FR Doc. 2020-07288 Filed 4-6-20; 8:45 am]

BILLING CODE 3510-22-P